DEPARTMENT OF HEALTH AND HUMAN SERVICES

Administration for Children and Families

Submission for OMB Review; Child Care and Development Fund (CCDF) Consumer Education Website and Reports of Serious Injuries and Death

AGENCY: Office of Child Care, Administration for Children and Families, Department of Health and Human Services.

ACTION: Request for Public Comments.

SUMMARY: The Office of Child Care (OCC), Administration for Children and Families (ACF), U.S. Department of Health and Human Services (HHS), is requesting a 3-year extension of the CCDF Consumer Education website and Reports of Serious Incidents and Death (Office of Management and Budget (OMB) #: 0970-0473, expiration date: April 30, 2023). There are no changes requested to the reporting requirements.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The existing Consumer Education Website reporting requirement will not be modified and requires states and territories to include information about state or territory policies (related to licensing, monitoring, and background checks) and provider-specific information, including results of monitoring and inspection reports and, if available, information about quality. The existing Reporting of Serious Injuries and Death reporting requirement will not be modified. CCDF Lead Agencies must establish procedures that require child care providers that care for children receiving CCDF subsidies to report to a designated state, territorial, or tribal entity any serious injuries or deaths of children occurring in child care. There are no standard federal forms associated with these reporting requirements.

Respondents: The Consumer Education website information collection requirement applies to the 50 states, the District of Columbia, and 5 territories that receive CCDF grants. Reporting of Serious Injuries and Death is a requirement for child care providers.

Annual Burden Estimates
Instrument | Total number of respondents | Total number of responses per respondent | Average burden hours per response | Total burden hours | Annual burden hours
Consumer Education Website | 56 | 1 | 300 | 50,400 | 16,800
Reporting of Serious Injuries and Death | 10,000 | 1 | 1 | 30,000 | 10,000

Estimated Total Annual Burden Hours: 26,800.

Authority: Pub. L. 113-186; 42 U.S.C. 9858 et seq.

Mary B. Jones,
ACF/OPRE Certifying Officer.

[FR Doc. 2023-07513 Filed 4-10-23; 8:45 am]

BILLING CODE 4184-43-P